DEPARTMENT OF ENERGY

Federal Energy Regulatory Commission

Combined Notice of Filings #1

Take notice that the Commission received the following electric corporate filings:

Docket Numbers: EC21-112-000.

Applicants: Puget Sound Energy, Inc., Macquarie Washington Clean Energy Investment, L.P., 2848926 Ontario Limited, CPP Investment Board (USRE II), Inc.

Description:Application for Authorization Under Section 203 of the Federal Power Act of Puget Sound Energy, Inc.

Filed Date: 8/9/21.

Accession Number: 20210809-5075.

Comment Date: 5 p.m. ET 8/30/21.

Take notice that the Commission received the following electric rate filings:

Docket Numbers: ER19-62-004.

Applicants: OneEnergy Baker Point Solar, LLC.

Description: Compliance filing: Informational Filing Pursuant to Section 2 of the PJM OATT & Request for Waiver to be effective N/A.

Filed Date: 8/9/21.

Accession Number: 20210809-5011.

Comment Date: 5 p.m. ET 8/30/21.

Docket Numbers: ER21-1807-001.

Applicants: Hill Top Energy Center LLC.

Description: Compliance filing: Compliance Filing Under Docket Nos. ER21-1807 and EL21-81 to be effective 6/1/2021.

Filed Date: 8/9/21.

Accession Number: 20210809-5079.

Comment Date: 5 p.m. ET 8/30/21.

Docket Numbers: ER21-1993-002.

Applicants: Upper Missouri G. & T. Electric Cooperative, Inc.

Description: Tariff Amendment: Supplement to Response to Deficiency Letter (Revised Rate Schedules 1,5,7,8,9) to be effective 5/25/2021.

Filed Date: 8/6/21.

Accession Number: 20210806-5223.

Comment Date: 5 p.m. ET 8/27/21.

Docket Numbers: ER21-2625-000.

Applicants: PJM Interconnection, L.L.C.

Description: § 205(d) Rate Filing: Original ISA, Service Agreement No. 6119; Queue No. AE2-285 to be effective 7/14/2021.

Filed Date: 8/9/21.

Accession Number: 20210809-5062.

Comment Date: 5 p.m. ET 8/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2021.
Debbie-Anne A. Reese,
Deputy Secretary.

[FR Doc. 2021-17333 Filed 8-12-21; 8:45 am]

BILLING CODE 6717-01-P